DEPARTMENT OF LABOR

Office of the Secretary

All Items Consumer Price Index for All Urban Consumers; United States City Average

Pursuant to Section 33105(c) of Title 49, United States Code, and the delegation of the Secretary of Transportation's responsibilities under that Act to the Administrator of the Federal Highway Administration (49 CFR, Section 501.2(a)(9)), the Secretary of Labor has certified to the Administrator and published this notice in the Federal Register that the United States City Average All Items Consumer Price Index for All Urban Consumers (1967 = 100) increased 116.6 percent from its 1984 annual average of 311.1 to its 2011 annual average of 673.818.

Signed at Washington, DC, on the 12th day of April 2012.
Hilda L. Solis,
Secretary of Labor.

[FR Doc. 2012-9362 Filed 4-17-12; 8:45 am]

BILLING CODE 4510-24-P